DEPARTMENT OF EDUCATION

[CFDA No. 84.336C]

Teacher Quality Enhancement Grants Program—Teacher Recruitment Competition; Notice Inviting Applications for New Awards for Fiscal Year (FY) 2002

Purpose of Program: This program provides grants to States and to partnerships to promote improvements in the quality of new teachers with the ultimate goal of increasing student achievement in pre-K-12 classrooms.

Eligible Applicants: States (including the District of Columbia, Puerto Rico and the insular areas) and partnerships comprised, at a minimum, of an institution of higher education with an eligible teacher preparation program, a school of arts and sciences, and a high-need local educational agency (LEA). These terms are defined in section 203 of the Higher Education Act and in regulations for this program in 34 CFR 611. States and partnerships that received an FY 1999 grant under this program are not eligible for this competition.

Applications Available: June 20, 2002.

Deadline for Transmittal of Applications: July 25, 2002.

Deadline for Intergovernmental Review: September 24, 2002.

Estimated Available Funds: $8,920,000.

Estimated Range of Awards: $195,000 — $465,000.

Estimated Average Size of Awards: $372,000.

Estimated Number of Awards: 24.

Note: The Department is not bound by any estimates in this notice.

Project Period: Up to 36 months.

Page Limit: The application narrative is where you, the applicant, address the selection criteria reviewers use to evaluate your application. You must limit your narrative to the equivalent of no more than 50 pages. In addition, you must limit your accompanying work plan to the equivalent of no more than 10 pages, your budget narrative to the equivalent of no more than 10 pages and your evaluation plan to the equivalent of no more than 5 pages, using the following standards:

• A “page” is 8.5″ x 11″, on one side only, with 1″ margins at the top, bottom, and both sides.

• Double space (no more than three lines per vertical inch) all text in the application narrative, work plan, budget narrative, and evaluation plan, including titles, headings, quotations, references, and captions, as well as all text in charts, tables, figures, and graphs.

• Use a font that is either 12-point or larger or no smaller than 10 pitch (characters per inch).

Our reviewers will not read any pages of your application that—

• Exceed the page limit if you apply these standards; or

• Exceed the equivalent of the page limit if you apply other standards.

Applicable Regulations: (a) The Education Department General Administrative Regulations (EDGAR) in 34 CFR parts 74, 75, 77, 79, 80, 82, 85, 86, 97, 98 and 99. (b) The regulations for this program appear in 34 CFR part 611.

SUPPLEMENTARY INFORMATION: The Teacher Recruitment Grants program, one of the three Teacher Quality Enhancement Grant programs contained in Title II, Part A of the Higher Education Act (HEA), is authorized in section 204 of the HEA. The program affords an opportunity for States and partnerships to address the challenge of America's teacher shortage by making significant and lasting systemic changes to the ways that teachers are recruited, prepared—either through postsecondary teacher preparation programs or alternative routes to teaching for those coming to the profession from other careers or educational backgrounds—and supported to teach in high-need schools. In administering the program, the Department of Education's goal is to support the efforts of the States and partnerships to ensure that all students, especially those in high-need school districts, have a highly qualified teacher to help them achieve to challenging State content and performance standards.

Through this notice the Secretary announces requirements and procedures to govern the competition for FY 2002 grant funds. In particular, the Department will implement only a single application review process and use the selection criteria identified in 34 CFR 611.32 rather than the two-step review process identified in 34 CFR 611.3(a)(iii). In all other respects the requirements and procedures for the upcoming FY 2002 competition are the same as those authorized in the Teacher Quality Enhancement Grant program regulations (34 CFR part 611) and the Education Department General Administrative Regulations (EDGAR).

Waiver of Proposed Rulemaking

Under the Administrative Procedure Act (5 U.S.C. 553) the Department generally offers interested parties the opportunity to comment on proposed regulations. However, these regulations make procedural changes only and do not establish new substantive policy. Therefore, under 5 U.S.C. 553(b)(a), the Secretary has determined that proposed rulemaking is not required. These requirements will apply to the FY 2002 grant competition only.

Because the Department did not receive from Congress a FY 2002 appropriation for this and other programs until January of 2002, the Department has had insufficient time to implement the two-stage application process otherwise required by 34 CFR 611.3(a)(3) and still make awards by September 30, 2002, the last day on which the Department may obligate these funds. The public is not prejudiced by eliminating the first of the two-stage review procedures in the upcoming competition because all potential applicants are eligible to apply for awards under the selection criteria identified in 34 CFR 611.32 and will be treated equally.

Pilot Project for Electronic Submission of This Application

In FY 2002, the U.S. Department of Education is continuing to expand its pilot project of electronic submission of applications to include additional formula grant programs and additional discretionary grant competitions. The Title II, Teacher Recruitment Program (CFDA No. 84.336C) is included in the pilot project. If you are an applicant under the Title II, Teacher Recruitment Program, you may submit your application to us in either electronic or paper format.

The pilot project involves the use of the Electronic Grant Application System (e-APPLICATION, formerly e-GAPS) portion of the Grant Administration and Payment System (GAPS). We request your participation in this pilot project. We shall continue to evaluate its success and solicit suggestions for improvement.

If you participate in this e-APPLICATION pilot, please note the following:

• Your participation is strictly voluntary.

• You will not receive any additional point value or penalty because you submit a grant application in electronic or paper format.

• You can submit all grant documents electronically, including the Application for Federal Assistance (ED 424), Budget Information-Non-Construction Programs (ED 524), and all necessary assurances and certifications.

• Within three working days of submitting your electronic application, fax a signed copy of the Application for Federal Assistance (ED 424) to the Application Control Center after following these steps:

1. Print ED 424 from the e-APPLICATION system.

2. Make sure that the institution's Authorizing Representative signs this form.

3. Before faxing this form, submit your electronic application via the e-APPLICATION system. You will receive an automatic acknowledgement, which will include a PR/Award number (an identifying number unique to your application).

4. Place the PR/Award number in the upper right hand corner of ED 424.

5. Fax ED 424 to the Application Control Center at (202) 260-1349.

• We may request that you give us original signatures on all other forms at a later date.

You may access the electronic grant application for the Title II, Teacher Recruitment Grants program at: http://e-grants.ed.gov.

We have included additional information about the e-APPLICATION pilot project (see Parity Guidelines between Paper and Electronic Applications) in the application package.

For Applications Contact: Education Publications Center (ED Pubs), P.O. Box 1398, Jessup, MD 20794-1398, Telephone (toll free): 1-877-433-7827. FAX: (301) 470-1244.

If you use a telecommunications device for the deaf (TDD), you may call (toll free): 1-877-576-7734.

You may also contact ED Pubs at its Web site: http://www.ed.gov/pubs/edpubs.html.

Or you may contact ED Pubs at its e-mail address: edpubs@inet.ed.gov.

If you request an application from ED Pubs, be sure to identify this competition as follows: CFDA number 84.336C. You may also request application forms by calling (202) 502-7878 or submitting the name of the competition and your name and postal address to: teacherquality@ed.gov.

Applications are also available on the Teacher Quality Web Site: http://www.ed.gov/offices/OPE/heatqp/.

FOR FURTHER INFORMATION CONTACT: Brenda Shade, U.S. Department of Education, 1919 K Street, NW., Room 6148, Washington, DC 20006-8525. Telephone: (202) 502-7878 or via Internet: Brenda.Shade@ed.gov.

If you use a telecommunications device for the deaf (TDD), you may call the Federal Information Relay Service (FIRS) at 1-800-877-8339.

Individuals with disabilities may obtain this document in alternative format, (e.g., Braille, large print, audiotape, or computer diskette) on request to the program contact person listed under FOR FURTHER INFORMATION CONTACT.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530

.

Note: The official version of this document is the document published in the Federal Register. Free Internet access to the official edition of the Federal Register and the Code of Federal Regulations is available on GPO Access at: http://www.access.gpo.gov/nara/index.html.

Program Authority: 20 U.S.C. 1024.

Dated: June 17, 2002.
Sally L. Stroup,
Assistant Secretary, Office of Postsecondary Education.

[FR Doc. 02-15627 Filed 6-19-02; 8:45 am]

BILLING CODE 4000-01-P